INTERNATIONAL TRADE COMMISSION

[Investigation No. 337-TA-1202]

Certain Synthetic Roofing Underlayment Products and Components Thereof; Commission Determination Not To Review an Initial Determination Granting Complainant's Unopposed Motion To Amend the Complaint and Notice of Investigation

AGENCY: U.S. International Trade Commission.

ACTION: Notice.

SUMMARY: Notice is hereby given that the U.S. International Trade Commission has determined not to review an initial determination (“ID”) (Corrected Order No. 6) of the presiding administrative law judge (“ALJ”) granting complainant's unopposed motion to amend the complaint and notice of investigation in the above-captioned investigation.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on June 1, 2020, based on a complaint filed by Kirsch Research and Development, LLC (“Kirsch”) of Simi Valley, California. 85 FR 33198-99 (June 1, 2020). The complaint alleges violations of section 337 of the Tariff Act of 1930, as amended (19 U.S.C. 1337), based on the importation into the United States, the sale for importation, or the sale within the United States after importation of certain synthetic roofing underlayment products and components thereof by reason of infringement of certain claims of U.S. Patent No. 8,765,251. Id. at 33198. The complaint further alleges that a domestic industry exists. Id. The notice of investigation names eleven respondents: Atlas Roofing Corporation of Atlanta, Georgia; CertainTeed Corporation of Malvern, Pennsylvania; Dupont De Nemours, Inc. and E. I. Du Pont De Nemours and Company, both of Wilmington, Delaware; Epilay, Inc. of Carson, California; GAF Corporation of Parsippany, New Jersey; Owens Corning, Owens Corning Roofing & Asphalt, LLC, and InterWrap Corp., each of Toledo, Ohio; System Components Corporation of Issaquah, Washington; and TAMKO Building Products, LLC of Joplin, Missouri. Id. The Office of Unfair Import Investigations is not named as a party. Id.

On July 2, 2020, Kirsch filed an unopposed motion to amend the complaint and notice of investigation to substitute CertainTeed LLC for respondent CertainTeed Corporation and GAF Materials LLC for respondent GAF Corporation, which was supported by joint stipulations between Kirsch and certain proposed respondents. On July 14, 2020, the ALJ issued the subject ID granting the requested relief. No petitions for review of the subject ID were filed.

The Commission has determined not to review the subject ID. The complaint and notice of investigation are hereby amended to substitute CertainTeed LLC for respondent CertainTeed Corporation and GAF Materials LLC with respondent GAF Corporation.

The Commission vote for this determination took place on August 3, 2020.

The authority for the Commission's determination is contained in section 337 of the Tariff Act of 1930, as amended (19 U.S.C. 1337), and in Part 210 of the Commission's Rules of Practice and Procedure (19 CFR part 210).

By order of the Commission.
Issued: August 4, 2020.
Lisa Barton,
Secretary to the Commission.

[FR Doc. 2020-17324 Filed 8-6-20; 8:45 am]

BILLING CODE 7020-02-P